FEDERAL MARITIME COMMISSION

[Docket No. 10-07]

Rendezvous International v. Chief Cargo Services, Inc., Kaiser Apparel, Inc., Edco Logistics, Inc., Oriental Logistics, Inc., and Razor Enterprise; Notice of Filing of Complaint and Assignment

Notice is given that a complaint has been filed with the Federal Maritime Commission (“Commission”) by Rendezvous International (“Rendezvous”), hereinafter “Complainant,” against Chief Cargo Services, Inc., Kaiser Apparel, Inc., Edco Logistics, Inc., Oriental Logistics, Inc., and Razor Enterprise, hereinafter “Respondents.” Complainant asserts that it is a partnership formed in the Country of Pakistan in the business of manufacturing garments. Complainant asserts that Respondents are “corporations and/or business entities formed in the State of New York and doing business in the State of New York” and that Respondents “perform importing services, freight forwarding and handling services, pay duties and freight, and clear shipments of goods through US Customs.”

Complainant alleges that “[t]he transactions of business underlying the Claimant's claim took place between Pakistan and New York, USA via ocean vessels NYK Cosmos, Asir, and Fowairet, from April 24, 2009, May 23, 2009 and June 5, 2009.” Complainant asserts that “shipments were to be released only upon presentation by Respondents of Original endorsed Negotiable Bills of Lading. The payment terms were on a CAD (Cash Against Documents) basis.” Complainant alleges that the terms of the Bill of Lading were “violated by Respondents when Respondents released the goods without obtaining the endorsed Bill of Lading.” As a result, Complainant alleges that Respondents violated: “U.S. Code Title 46 Sec. 1 (a), Sec 30701(4), 30701(6), 30701(7), 30701(8), Sec 41102(b), 41102(c) (Shipping Act Sec 10(a)(1) and 10(d)(1)), 41301 (sec 11(a) of the Shipping Act), 41302, 41303, 41304, 41305, 41309, 305; U.S. Code 49 Sec 80101, 80102, 80103, 80104, 80110, 80111, 80116, 80106.”

Complainant asserts that it has suffered damages in the sum of “$290,424.91, plus interst/mark-up, plus US$ 7500.00”, for attorney fees and other expenses. Complainant requests that the Commission “investigate the matter”; that Respondents be required to answer the charges made by Complainant; that Respondents be ordered to pay reparations of $290,424.91 with interest, costs and attorney's fees; and order any such other and further relief as the Commission deems just and proper.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record.

Pursuant to the further terms of 46 CFR 502.61, the initial decision of the presiding officer in this proceeding shall be issued by July 25, 2011 and the final decision of the Commission shall be issued by November 22, 2011.

Karen V. Gregory,
Secretary.

[FR Doc. 2010-18580 Filed 7-28-10; 8:45 am]

BILLING CODE P